FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 200233-012.

Title: Packer Avenue Lease and Operating Agreement.

Parties: Philadelphia Regional Port Authority, Astro Holdings, Inc.

Synopsis: The proposed amendment extends the agreement through June 19, 2002.

Agreement No.: 011808.

Title: HJS/Sinolines Slot Allocation & Sailing Agreement.

Parties: Hanjin Shipping Co., Ltd., Sinotrans Container Lines Co., Ltd.

Synopsis: The agreement would authorize the parties to share vessel space in the trade between ports in the Peoples' Republic of China (including Hong Kong), Taiwan, Korea, and Japan and ports on the U.S. Pacific Coast.

Dated: June 7, 2002.
By Order of the Federal Maritime Commission.
Theodore A. Zook,
Assistant Secretary.

[FR Doc. 02-14783 Filed 6-11-02; 8:45 am]

BILLING CODE 6730-01-P